ENVIRONMENTAL PROTECTION AGENCY

40 CFR Parts 52 and 81

[R08-OAR-2005-UT-0006; FRL-7992-7]

Approval and Promulgation of Air Quality Implementation Plans; State of Utah; Provo Attainment Demonstration of the Carbon Monoxide Standard, Redesignation to Attainment, Designation of Areas for Air Quality Planning Purposes, and Approval of Related Revisions

AGENCY: Environmental Protection Agency (EPA).

ACTION: Proposed rule.

SUMMARY: EPA is proposing to approve State Implementation Plan (SIP) revisions submitted by the State of Utah. On April 1, 2004, the Governor of Utah submitted an attainment demonstration and plan for the Provo metropolitan area (hereafter, Provo area) for the carbon monoxide (CO) National Ambient Air Quality Standard (NAAQS) to replace the demonstration and plan that were submitted by Governor Leavitt on July 11, 1994. The Governor's submittal also contained a request to redesignate the Provo area to attainment for the CO NAAQS and a maintenance plan which includes transportation conformity motor vehicle emission budgets (MVEB) for 2014 and 2015. The Governor also submitted revisions to: Utah's Rule R307-110-12, “Section IX, Control Measures for Area and Point Sources, Part C, Carbon Monoxide,” which incorporates the attainment demonstration, plan, and maintenance plan; Utah's Rule R307-110-31, “Section X, Vehicle Inspection and Maintenance Program, Part A,” which incorporates general requirements and applicability for motor vehicle emissions inspections; and Utah's Rule R307-110-34, “Section X, Vehicle Inspection and Maintenance Program, Part D, Utah County,” which incorporates a revised vehicle inspection and maintenance program for Utah County. The Governor's April 1, 2004 submittal also stated that the prior July 11, 1994 submittal of Utah's Rule R307-1-4.12, “Emissions Standards for Residential Solid Fuel Burning Devices and Fireplaces'' to restrict woodburning in Utah County, remains part of her April 1, 2004 submittal and requested that Utah's Rule R307-301, “Oxygenated Gasoline Program,” be eliminated from the Federally-approved SIP. We note that on September 20, 1999, the Governor submitted Utah Rules R307-302-3 and -4, which together comprise a re-numbered and re-titled version of R307-1-4.12. The text of Rules R307-302-3 and -4 is identical to the text of Rule R307-1-4.12 that the Governor submitted on July 11, 1994.

EPA is proposing to approve the Provo area's attainment demonstration and plan, the request for redesignation to attainment for the Provo area, the maintenance plan, the transportation conformity MVEBs for 2014 and 2015, the revisions to Rule R307-110-12, the revisions to Rule R307-110-31, the revisions to Rule R307-110-34, Rules R307-302-3 and -4, and the request to remove Rule R307-301 from the Federally-approved SIP. EPA is also identifying the transportation conformity MVEB for the year 2000, which is derived from the attainment year emission inventory in the attainment plan. This action is being taken under section 110 of the Clean Air Act.

In the “Rules and Regulations” section of this Federal Register, EPA is approving the State's SIP revisions as a direct final rule without prior proposal because the Agency views this as a noncontroversial SIP revision and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

DATES: Written comments must be received on or before December 2, 2005.

ADDRESSES: Submit your comments, identified by RME Docket Number R08-OAR-2005-UT-0006, by one of the following methods:

• Federal eRulemaking Portal: http://www.regulations.gov. Follow the on-line instructions for submitting comments.

• Agency Web site: http://docket.epa.gov/rmepub/index.jsp. Regional Materials in EDOCKET (RME), EPA's electronic public docket and comment system for regional actions, is EPA's preferred method for receiving comments. Follow the on-line instructions for submitting comments.

• E-mail: long.richard@epa.gov and

russ.tim@epa.gov.

• Fax: (303) 312-6064 (please alert the individual listed in the FOR FURTHER INFORMATION CONTACT if you are faxing comments).

• Mail: Richard R. Long, Director, Air and Radiation Program, Environmental Protection Agency (EPA), Region 8, Mailcode 8P-AR, 999 18th Street, Suite 200, Denver, Colorado 80202-2466.

• Hand Delivery: Richard R. Long, Director, Air and Radiation Program, Environmental Protection Agency (EPA), Region 8, Mailcode 8P-AR, 999 18th Street, Suite 200, Denver, Colorado 80202-2466. Such deliveries are only accepted Monday through Friday, 8 a.m. to 4:55 p.m., excluding Federal holidays. Special arrangements should be made for deliveries of boxed information.

Please see the direct final rule which is located in the Rules section of this Federal Register for detailed instructions on how to submit comments.

FOR FURTHER INFORMATION CONTACT: Tim Russ, Air and Radiation Program, Environmental Protection Agency (EPA), Region 8, Mailcode 8P-AR, 999 18th Street, Suite 200, Denver, Colorado 80202-2466, phone (303) 312-6436, and e-mail at: russ.tim@epa.gov

SUPPLEMENTARY INFORMATION: See the information provided in the Direct Final action of the same title which is located in the Rules and Regulations section of the Federal Register.

Authority: 42 U.S.C. 7401 et seq.

Dated: October 24, 2005.
Robert E. Roberts,
Regional Administrator, Region VIII.

[FR Doc. 05-21836 Filed 11-1-05; 8:45 am]

BILLING CODE 6560-50-P